DEPARTMENT OF TRANSPORTATION

Federal Aviation Administration

14 CFR Part 71

[Docket No. FAA-2013-0664; Airspace Docket No. 13-ANM-22]

Modification of Class E Airspace; Cut Bank, MT

AGENCY: Federal Aviation Administration (FAA), DOT.

ACTION: Final rule.

SUMMARY: This action modifies Class E airspace at Cut Bank, MT, to accommodate new Area Navigation (RNAV) Global Positioning System (GPS) standard instrument approach procedures at Cut Bank Municipal Airport. This improves the safety and management of Instrument Flight Rules (IFR) operations at the airport. This action also adjusts the geographic coordinates of the airport.

DATES: Effective date, 0901 UTC, February 6, 2014. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue SW., Renton, WA, 98057; telephone (425) 203-4537.

SUPPLEMENTARY INFORMATION:

History

On August 22, 2013, the FAA published in the Federal Register a notice of proposed rulemaking (NPRM) to modify controlled airspace at Cut Bank, MT (78 FR 52112). Interested parties were invited to participate in this rulemaking effort by submitting written comments on the proposal to the FAA. No comments were received.

Class E airspace designations are published in paragraphs 6002 and 6005, respectively, of FAA Order 7400.9X dated August 7, 2013, and effective September 15, 2013, which is incorporated by reference in 14 CFR 71.1. The Class E airspace designations listed in this document will be published subsequently in that Order. Except for editorial changes this rule is the same as published in the NPRM.

The Rule

This action amends Title 14 Code of Federal Regulations (14 CFR) Part 71 by modifying Class E surface area airspace and Class E airspace extending upward from 700/1,200 feet above the surface, at Cut Bank Municipal Airport, Cut Bank, MT, to accommodate new RNAV (GPS) standard instrument approach procedures at the airport. The segment of the Class E surface area airspace expands from the 4.7-mile radius of the airport to 11 miles southeast of the airport; the segment of the Class E airspace area extending upward from 700 feet above the surface expands from the 7.9-mile radius of the airport to 18.4 miles southeast and 12.6 miles south of the airport; and a sector is added surrounding the airport extending upward from 1,200 feet above the surface. This action is necessary for the safety and management of IFR operations at the airport. The geographic coordinates of the airport are adjusted in accordance with the FAA's aeronautical database for the respective Class E airspace areas.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at Cut Bank Municipal Airport, Cut Bank, MT.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9X, Airspace Designations and Reporting Points, dated August 7, 2013, and effective September 15, 2013 is amended as follows:

Paragraph 6002 Class E airspace designated as surface areas.

* * * * *

ANM MT E2 Cut Bank, MT [Modified]

Cut Bank Municipal Airport, MT

(Lat. 48°36′30″ N., long. 112°22′34″ W.)

Within a 4.7-mile radius of the Cut Bank Municipal Airport, and within 3.1 miles each side of the 150° bearing of the Cut Bank Municipal Airport extending from the 4.7-mile radius to 11 miles southeast of the airport.

Paragraph 6005 Class E airspace areas extending upward from 700 feet or more above the surface of the earth.

* * * * *

ANM MT E5 Cut Bank, MT [Modified]

Cut Bank Municipal Airport, MT

(Lat. 48°36′30″ N., long. 112°22′34″ W.)

That airspace extending upward from 700 feet above the surface within a 7.9-mile radius of the Cut Bank Municipal Airport, and within 8.3 miles northeast and 4 miles southwest of the 150° bearing of the Cut Bank Municipal Airport extending from the 7.9-mile radius to 18.4 miles southeast of the airport, and within 2.6 miles each side of the 175° bearing of the Cut Bank Municipal Airport extending from the 7.9-mile radius to 12.6 miles south of the airport; that airspace extending upward from 1,200 feet above the surface bounded by a line beginning at lat. 47°53′00″ N., long. 113°11′00″ W.; to lat. 48°52′00″ N., long. 112°42′00″ W.; to lat. 48°57′00″ N., long. 111°46′00″ W.; to lat. 48°27′00″ N., long. 111°01′00″ W.; to lat. 48°08′00″ N., long. 111°19′00″ W.; to lat. 47°46′00″ N., long. 112°35′00″ W., thence to the point of beginning.

Issued in Seattle, Washington, on: October 30, 2013.
Clark Desing,
Manager, Operations Support Group, Western Service Center.

[FR Doc. 2013-26922 Filed 11-8-13; 8:45 am]

BILLING CODE 4910-13-P